OFFICE OF PERSONNEL MANAGEMENT

Submission for OMB Review; Comment Request; Review of Reinstated Information Collection: Instructions and Form 1417

AGENCY: Office of Personnel Management.

ACTION: Notice.

SUMMARY: In accordance with the Paperwork Reduction Act of 1995 (Public Law 104-13, May 22, 1995), this notice announces that the Office of Personnel Management has submitted to the Office of Management and Budget a request for clearance of a revised information collection. Form 1417, Combined Federal Campaign Annual Reporting, is used to collect information from 384 local CFC's around the country to verify campaign results.

We estimate 384 Form 1417's are completed annually. Each form takes approximately 60 minutes to complete. The annual estimated burden is 384 hours.

Comments are particularly invited on:

—Whether this collection of information is necessary for the proper performance of functions of the Office of Personnel Management, and whether it will have practical utility;

—Whether our estimate of the public burden of this collection is accurate, and based on valid assumptions and methodology; and

—Ways in which we can minimize the burden of the collection of information on those who are to respond, through use of the appropriate technological collection techniques or other forms of information technology.

For copies of this proposal, contact Mary Beth Smith-Toomey on 202/606-8358, or E-mail to mbtoomey@opm.gov.

DATES: Comments on this proposal should be received on or before October 16, 2000.

ADDRESSES: Send or deliver comments to: Mara T. Patermaster, Director, Office of CFC Operations, US Office of Personnel Management, 1900 “E” Street, NW, Room 5450, Washington, DC 20415.

For information regarding administrative coordination contact: Mara T. Patermaster, Director, Office of CFC Operations, US Office of Personnel Management, 1900 “E” Street, NW, Room 5450, Washington, DC 20415, (202) 606-2564.

U.S. Office of Personnel Management.
Janice R. Lachance,
Director.

[FR Doc. 00-20652 Filed 8-15-00; 8:45 am]

BILLING CODE 6325-01-P